DEPARTMENT OF THE INTERIOR

Bureau of Land Management

[LLCAD070000 L16100000 DR0000]

Notice of Availability of the Record of Decision for the Approved Imperial Sand Dunes Recreation Area Management Plan and California Desert Conservation Area Plan Amendment

AGENCY: Bureau of Land Management, Interior.

ACTION: Notice of Availability.

SUMMARY: The Bureau of Land Management (BLM) announces the availability of the Imperial Sand Dunes Recreation Area Record of Decision (ROD)/approved Recreation Area Management Plan (RAMP) and California Desert Conservation Area (CDCA) Plan Amendment, Imperial County, California. The BLM California State Director signed the ROD on June 18, 2013, which constitutes the final decision of the BLM and makes the Approved RAMP/CDCA Plan Amendment effective immediately.

ADDRESSES: Copies of the ROD/approved RAMP/CDCA Plan Amendment are available upon request from the Field Manager, El Centro Field Office, Bureau of Land Management, 1661 South 4th Street, El Centro, CA 92243 or via the Internet at http://www.blm.gov/ca/elcentro. Copies of the ROD/approved RAMP/CDCA Plan Amendment are available for public inspection at the BLM El Centro Field Office at the address above; at the BLM California Desert District Office, 22835 San Juan de los Lagos, Moreno Valley, CA 92553; and the BLM California State Office, 2800 Cottage Way, Sacramento, CA 95825.

If you wish to appeal an implementation decision, the notice of appeal must be filed in the BLM El Centro Field Office, 1661 South 4th Street El Centro, CA 92243, within 30 days from the decision.

FOR FURTHER INFORMATION CONTACT: Greg Hill, Project Manager, telephone: 951-697-5395; address: BLM California Desert District, 22835 Calle San Juan de Los Lagos, Moreno Valley, CA 92553; email: greg_hill@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Imperial Sand Dunes Recreation Area (ISDRA) and surrounding lands included in the planning area encompass about 215,000 acres, of which approximately 12,000 acres are non-Federal lands for which these planning decisions do not apply. The planning area is located in the southeastern portion of Imperial County, California, and is part of the CDCA. The primary recreation activities in the ISDRA include off- highway vehicle use, camping, backcountry auto touring, and sightseeing. The planning area also contains the North Algodones Dunes Wilderness, two Areas of Critical Environmental Concern, and habitat for several sensitive species. The RAMP/CDCA Plan Amendment and Final Environmental Impact Statement (EIS) were developed through a collaborative planning process that considered eight alternatives. The U.S. Customs and Border Protection-Border Patrol and Imperial County were cooperating agencies. Though not a cooperating agency, the U.S. Fish and Wildlife Service was involved throughout the planning process. Formal and informal consultation and contacts were made with interested tribal entities, including 17 tribal governments, the Native American Heritage Commission, and the State Historic Preservation Office. The Proposed RAMP/CDCA Plan Amendment and Final EIS were released on September 14, 2012. Eight alternatives were analyzed in the Proposed RAMP/CDCA Plan Amendment and Final EIS. The BLM selected Alternative 8, the Proposed Plan, as the best approach to maintaining the naturalness of the Imperial Sand Dunes Recreation Area and managing recreation uses, while still protecting the resources and values for which the area was established. Since release of the Proposed RAMP/CDCA Plan Amendment and Final EIS, the BLM requested a Consistency Review by the Governor's Office of Planning and Research, and received three protests, one each from the American Sand Association, the Center for Biological Diversity and other conservation groups, and the Sanitation Districts of Los Angeles County. The BLM also received a comment letter from the Environmental Protection Agency (EPA). The Governor's Consistency Review found no inconsistencies between the Proposed RAMP and any State or local plan, policies, or programs. In response to the protests and EPA comment letter, the BLM made only minor editorial modifications in preparing the ROD for the Approved RAMP and CDCA Plan Amendment. These modifications provided further clarification of some of the decisions.

Implementation decisions in this document that may be appealed include the following:

• Site-specific camping, parking, and other restrictions to protect special status species or wildlife habitat;

• Management of wildlife guzzlers; fuels management; and placement of fencing, signing, or other facilities to protect wildlife habitat;

• Signing, fencing, interpretive sites, or other facilities to protect cultural and paleontological resources;

• Management and design of actions and facilities to meet visual resources management (VRM) class objectives;

• Site-specific protection measures to protect lands with wilderness characteristics;

• Site-specific management actions and plans for areas of critical environmental concern (ACECs);

• Design, development, management, and administration of recreation sites and facilities within Recreation Management Zones; and

• Designation of individual routes and trails within off highway vehicle (OHV) management areas as open, limited, or closed.

These decisions, including identifying routes of travel within designated areas for motorized vehicles, are implementation decisions appealable under 43 CFR part 4. The route of travel decisions are contained in Appendix G of the Approved RAMP and CDCA Plan Amendment ROD. Any party adversely affected by the proposed route identifications, or other implementation decisions, may appeal within 30 days of the publication date of this Notice of Availability pursuant to 43 CFR part 4 subpart E. The appeal should state the specific route(s) or other decision(s), as identified in the ROD.

The appeal must be filed with the El Centro Field Manager at the above listed address. Please consult the appropriate regulations (43 CFR part 4 subpart E) and the ROD for further appeal requirements.

Authority: 40 CFR 1506.6, 40 CFR 1506.10, 43 CFR 1610.2, 43 CFR 1610.5.

Thomas F. Zale,
Acting Field Manager, El Centro Field Office.

[FR Doc. 2013-14436 Filed 6-17-13; 8:45 am]

BILLING CODE 4310-40-P